DEPARTMENT OF LABOR

Employment and Training Administration

[TA-W-41,840 and TA-W-41,840A]

Corbin, Ltd, Huntington, WV and Corbin, Ltd, Ashland, KY; Amended Certification Regarding Eligibility To Apply for Worker Adjustment Assistance

In accordance with Section 223 of the Trade Act of 1974 (19 U.S.C. 2273) the Department Labor issued a Certification of Eligibility to Apply for Worker Adjustment Assistance on December 31, 2002, applicable to workers of Corbin, Ltd., Huntington, West Virginia. The notice was published in the Federal Register on January 15, 2003 (68 FR 2075).

At the request of the company, the Department reviewed the certification for workers of the subject firm. The workers are engaged in the production of men's pants and shorts, predominantly wool. New findings show that worker separations occurred at the Ashland, Kentucky facility of the subject firm. Workers at Ashland, Kentucky cut men's pants for the Huntington, West Virginia location as well as cut and sew men's suits, sport coats and jackets for the subject firm.

Accordingly, the Department is amending the certification to cover workers at Corbin, Ltd., Ashland, Kentucky.

The intent of the Department's certification is to include all workers of Corbin, Ltd. who were adversely affected by increased imports.

The amended notice applicable to TA-W-41,840 is hereby issued as follows:

All workers of Corbin, Ltd., Huntington, West Virginia (TA-W-41,840) and Corbin, Ltd., Ashland, Kentucky (TA-W-41,840A), who became totally or partially separated from employment on or after June 21, 2001, through December 31, 2004, are eligible to apply for adjustment assistance under Section 223 of the Trade Act of 1974.

Signed at Washington DC, this 23rd day of April 2003.
Elliott S. Kushner,
Certifying Officer, Division of Trade Adjustment Assistance.

[FR Doc. 03-11281 Filed 5-6-03; 8:45 am]

BILLING CODE 4510-30-P